ENVIRONMENTAL PROTECTION AGENCY

[ER-FRL-6656-5]

Environmental Impact Statements and Regulations; Availability of EPA Comments

Availability of EPA comments prepared pursuant to the Environmental Review Process (ERP), under section 309 of the Clean Air Act and section 102(2)(c) of the National Environmental Policy Act, as amended. Requests for copies of EPA comments can be directed to the Office of Federal Activities at (202) 564-7167. An explanation of the ratings assigned to draft environmental impact statements (EISs) was published in the Federal Register dated April 2, 2004 (69 FR 17403).

Draft EISs

ERP No. D-AFS-K65273-CA Rating EC2, Cottonwood Fire Vegetation Management Project, Control Vegetation that is Competing with Conifer Seedlings, Sierraville Ranger District, Tahoe National Forest, Sierra County, CA.

Summary: EPA expressed concerns due to impacts to water quality and sensitive resources, related to potential use of the herbicide triclopyr and cumulative impacts.

ERP No. D-NPS-E65070-AL Rating LO, Selma to Montgomery National Historic Trail Comprehensive Management Plan, Implementation, Dallas, Lowndes and Montgomery Counties, AL.

Summary: EPA has no objection to the preferred alternative for managing this historic trail.

ERP No. D-NPS-L61227-OR Rating LO, Crater Lake National Park General Management Plans, Implementation, Klamath, Jackson and Douglas Counties, OR.

Summary: EPA supports the selection on the environmentally preferred alternative which includes increased non-motorized recreational opportunities in the Park.

Final EISs

ERP No. F-DOE-L09817-WA BP Cherry Point Cogeneration Project, To Build a 720-megawatt Gas-Fired Combined Cycle Cogeneration Facility, Energy Facility Site Evaluation Council (EFSEC), Whatcom County, WA.

Summary: No comment letter was sent to the preparing agency.

ERP No. F-SFW-L64048-WA Nisqually National Wildlife Refuge (NWR) Comprehensive Conservation Plan, Habitat Restoration, Refuge Boundary Expansion and Related Environmental and Recreational Opportunities, Approval and Implementation, Puget Sound, Nisqually River Delta, Thurston and Pierce Counties, WA.

Summary: No comment letter was sent to the preparing agency.

Dated: October 5, 2004.
Robert W. Hargrove,
Director, NEPA Compliance Division, Office of Federal Activities.

[FR Doc. 04-22667 Filed 10-7-04; 8:45 am]

BILLING CODE 6560-50-P